DEPARTMENT OF HOMELAND SECURITY

Notice of Intent To Delete a System of Records

AGENCY: U.S. Department of Homeland Security.

ACTION: Notice to delete a System of Records.

SUMMARY: The Federal Protective Service, a sub-component of the Department of Homeland Security is deleting a system of records subject to the Privacy Act of 1974, as amended. The system of records being deleted is the Federal Protective System Information Support Tracking System (FISTS).

DATES: FISTS will be decommissioned on July 15, 2015. Data will not be writable or accessible after July 14, 2015.

FOR FURTHER INFORMATION CONTACT: Francis M. Crotty, (202) 732-0264.

Dated: June 1, 2015.
Ricci Mulligan,
Deputy Director, Resource Management, Federal Protective Service.

[FR Doc. 2015-14009 Filed 6-8-15; 8:45 am]

BILLING CODE P